CORPORATION FOR NATIONAL AND COMMUNITY SERVICE

Sunshine Act Meeting

AGENCY: Corporation for National and Community Service.

ACTION: Notice of NCCC Advisory Board Meeting; correction.

SUMMARY: The Corporation for National and Community Service is correcting the Notice regarding the call-in information for the NCCC Advisory Board meeting that appeared in the Federal Register of July 6, 2012 (77 FR 40023). That document incorrectly listed the call-in number as 888-455-7057 and the conference call access code number as 1876264. The meeting leader, Kate Raftery, was also omitted.

FOR FURTHER INFORMATION CONTACT: Erma Hodge, NCCC, Corporation for National and Community Service, 9th Floor, Room 9802B, 1201 New York Avenue NW., Washington, DC 20525. Phone (202) 606-6696. Fax (202) 606-3459. TTY: (800) 833-3722. Email: ehodge@cns.gov.

SUPPLEMENTARY INFORMATION: In the 77 FR 40023, beginning on page 40023 in the Federal Register of Friday, July 6, 2012, make the following correction: On page 40023, in the third column, revise the call-in number 888-455-7057 and conference call access code number 1876264 to read as follows: call-in number 800-988-9402 and conference call access number 1876264. Kate Raftery will be the lead on the call.

Dated: July 11, 2012.
Valerie E. Green,
General Counsel.

[FR Doc. 2012-17298 Filed 7-12-12; 11:15 am]

BILLING CODE 6050-$$-P